COMMITTEE FOR PURCHASE FROM PEOPLE WHO ARE BLIND OR SEVERELY DISABLED

Procurement List; Deletions

AGENCY: Committee for Purchase From People Who Are Blind or Severely Disabled.

ACTION: Deletions from Procurement List.

SUMMARY: This action from the Procurement List products and a service previously furnished by nonprofit agencies employing persons who are blind or have other severe disabilities.

EFFECTIVE DATE: March 11, 2007.

ADDRESSES: Committee for Purchase From People Who Are Blind or Severely Disabled, Jefferson Plaza 2, Suite 10800, 1421 Jefferson Davis Highway, Arlington, Virginia 22202-3259.

FOR FURTHER INFORMATION CONTACT OR TO SUBMIT COMMENTS CONTACT: Sheryl D. Kennerly, Telephone: (703) 603-7740, Fax: (703) 603-0655, or e-mail CMTEFedReg@jwod.gov.

SUPPLEMENTARY INFORMATION:

Deletions

On December 15, 2006, the Committee for Purchase From People Who Are Blind or Severely Disabled published notice (70 FR 75496-75497) of proposed deletions to the Procurement List.

After consideration of the relevant matter presented, the Committee has determined that the products and service listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the products and services to the Government.

3. There are no known regulatory alternatives which would accomplish the objectives of the Javits-Wagner-O'Day Act (41 U.S.C. 46-48c) in connection with the products and services deleted from the Procurement List.

End of Certification

Accordingly, the following products and service are deleted from the Procurement List:

Products

Bedspring

NSN: 7210-00-110-8104—Bedspring

NSN: 7210-00-110-8105—Bedspring

NSN: 7210-00-582-0984—Bedspring

NSN: 7210-00-582-7540—Bedspring

NPA: Georgia Industries for the Blind, Bainbridge, GA

NPA: L.C. Industries for the Blind, Inc., Durham, NC

NPA: Lions Volunteer Blind Industries, Inc., Morristown, TN

NPA: Mississippi Industries for the Blind, Jackson, MS

NPA: Virginia Industries for the Blind, Charlottesville, VA

NPA: Winston-Salem Industries for the Blind, Winston-Salem, NC

Contracting Activity: GSA, Southwest Supply Center, Fort Worth, TX

Box, Wood

NSN: 8115-00-NSH-0156—Box, Wood

NSN: 8115-00-NSH-0157—Box, Wood

NSN: 8115-00-NSH-0158—Box, Wood

NSN: 8115-00-NSH-0159—Box, Wood

NSN: 8115-00-NSH-0160—Box, Wood

NSN: 8115-00-NSH-0161—Box, Wood

NSN: 8115-00-NSH-0162—Box, Wood

NSN: 8115-00-NSH-0163—Box, Wood

NSN: 8115-00-NSH-0164—Box, Wood

NSN: 8115-00-NSH-0165—Box, Wood

NSN: 8115-00-NSH-0166—Box, Wood

NSN: 8115-00-NSH-0167—Box, Wood

NSN: 8115-00-NSH-0168—Box, Wood

NSN: 8115-00-NSH-0169—Box, Wood

NSN: 8115-00-NSH-0170—Box, Wood

NSN: 8115-00-NSH-0171—Box, Wood

NSN: 8115-00-NSH-0172—Box, Wood

NSN: 8115-00-NSH-0173—Box, Wood

NSN: 8115-00-NSH-0174—Box, Wood

NSN: 8115-00-NSH-0175—Box, Wood

NSN: 8115-00-NSH-0177—Box, Wood

NSN: 8115-00-NSH-0178—Box, Wood

NSN: 8115-00-NSH-0179—Box, Wood

NSN: 8115-00-NSH-0180—Box, Wood

NSN: 8115-00-NSH-0181—Box, Wood

NSN: 8115-00-NSH-0186—Box, Wood

NSN: 8115-00-NSH-0192—Box, Wood

NSN: 8115-00-NSH-0199—Box, Wood

NSN: 8115-00-NSH-0203—Box, Wood

NPA: Helena Industries, Inc., Helena, MT

Contracting Activity: Naval Supply Center, San Diego, CA

Brush, Wire, Scratch

NSN: 7920-00-223-7649—Brush, Wire, Scratch

NPA: Industries for the Blind, Inc., West Allis, WI

Contracting Activity: GSA, Southwest Supply Center, Fort Worth, TX

Cap Assembly, Plastic Water Can

NSN: 7240-01-380-9411—Cap Assembly, Plastic Water Can

NPA: L.C. Industries for the Blind, Inc., Durham, NC

Contracting Activity: Defense Supply Center Philadelphia, Philadelphia, PA

Coin Bags

NSN: 8105-00-NSH-0005—Coin Bags

NSN: 8105-00-NSH-0006—Coin Bags

NSN: 8105-00-NSH-0008—Coin Bags

NSN: 8105-00-NSH-0009—Coin Bags

NSN: 8105-00-NSH-0010—Coin Bags

NSN: 8105-00-NSH-0011—Coin Bags

NSN: 8105-00-NSH-0012—Coin Bags

NSN: 8105-00-NSH-0013—Coin Bags

NSN: 8105-00-NSH-0014—Coin Bags

NPA: Mount Rogers Community MH-MR Services Board, Wytheville, VA

Contracting Activity: Bureau of the Mint, Department of the Treasury, Washington, DC

Meal Kits

NSN: 8970-01-E59-0242B—Meal Kits (Infantry Kit)

NSN: 8970-01-E59-0243B—Meal Kits (Infantry Kits)

NPA: Unknown

NSN: 8970-01-E59-0242A—Meal Kits (MORC Kits)

NSN: 8970-01-E59-0243A—Meal Kits (MORC Kits)

NPA: Topeka Association for Retarded Citizens, Topeka, KS

Contracting Activity: National Guard Bureau

Pallet, Wood

NSN: 3990-00-NSH-0063—Pallet, Wood

NSN: 3990-00-NSH-0064—Pallet, Wood

NPA: Chesapeake Bay Industries, Inc., Easton, MD

Contracting Activity: Government Printing Office, Washington, DC

Sponge Rubber Mattresses Rehabilitation

NSN: 7699 24X73X4-1/2—Sponge Rubber Mattresses Rehabilitation

NSN: 7699 24X76X4-1/2—Sponge Rubber Mattresses Rehabilitation

NSN: 7699 26X72-1/2X3—Sponge Rubber Mattresses Rehabilitation

NSN: 7699 26X76-1/2X3—Sponge Rubber Mattresses Rehabilitation

NSN: 7699 26X76X4-1/2—Sponge Rubber Mattresses Rehabilitation

NSN: 7699 28X76X4—Sponge Rubber Mattresses Rehabilitation

NSN: 7699 28X76X6—Sponge Rubber Mattresses Rehabilitation

NSN: 7699 34-3/4X76X6—Sponge Rubber Mattresses Rehabilitation

NPA: Unknown

Contracting Activity: GSA, Southwest Supply Center, Fort Worth, TX

Strap Assembly

NSN: 5855-00-125-0762—Strap Assembly

NPA: Cambria County Association for the Blind and Handicapped, Johnstown, PA

Contracting Activity: Defense Supply Center Columbus, Columbus, OH

Table, VDT

NSN: 7110-01-226-1706—Table, VDT

NSN: 7110-01-226-9888—Table, VDT

NPA: Unknown

Contracting Activity: GSA, National Furniture Center, Arlington, VA

Tree Shade

NSN: 9905-00-NSH-0153—Tree Shade

NPA: Sunrise Enterprises of Roseburg, Inc., Roseburg, OR

Contracting Activity: USDA, Forest Service, Portland, Portland, OR

Service

Service Type/Location: Commissary Shelf Stocking, Custodial & Warehousing,Fort McPherson,Fort McPherson, GA.

NPA: WORKTEC, Jonesboro, GA

Contracting Activity: Defense Commissary Agency, Fort Lee, VA

Sheryl D. Kennerly,
Director, Information Management.

[FR Doc. E7-2188 Filed 2-8-07; 8:45 am]

BILLING CODE 6353-01-P